DEPARTMENT OF ENERGY

Federal Energy Regulatory Commission

[Docket No. CP15-513-000]

Texas Gas Transmission, LLC; Revised Notice of Schedule for Environmental Review of the Northern Supply Access Project

This notice identifies the Federal Energy Regulatory Commission (Commission or FERC) staff's revised schedule for the completion of the environmental assessment (EA) for Texas Gas Transmission, LLC's Northern Supply Access Project. The previous notice of schedule, issued on December 23, 2015, identified February 4, 2016 as the issuance date.

Schedule for Environmental Review

Issuance of EA, January 26, 2016

90-day Federal Authorization Decision Deadline, April 25, 2016

If a schedule change becomes necessary, additional notice will be provided so that the relevant agencies are kept informed of the Project's progress.

Additional Information

In order to receive notification of the issuance of the EA and to keep track of all formal issuances and submittals in specific dockets, the Commission offers a free service called eSubscription. Go to www.ferc.gov/docs-filing/esubscription.asp.

Dated: January 15, 2016.
Nathaniel J. Davis, Sr.,
Deputy Secretary.

[FR Doc. 2016-01234 Filed 1-21-16; 8:45 am]

BILLING CODE 6717-01-P